DEPARTMENT OF COMMERCE

International Trade Administration

[A-357-822, A-301-804, A-729-804. A-560-837, A-475-843, A-557-819, A-421-814, A-517-806, A-791-826, A-469-821, A-583-868, A-723-001, A-489-842, A-823-817, A-520-809]

Prestressed Concrete Steel Wire Strand From Argentina, Colombia, Egypt, Indonesia, Italy, Malaysia, the Netherlands, Saudi Arabia, South Africa, Spain, Taiwan, Tunisia, the Republic of Turkey, Ukraine, and the United Arab Emirates: Initiation of Less-Than-Fair-Value Investigations

AGENCY: Enforcement and Compliance, International Trade Administration, Department of Commerce.

DATES: Applicable May 6, 2020.

FOR FURTHER INFORMATION CONTACT: Alex Villanueva; AD/CVD Operations, Office I, Enforcement and Compliance, International Trade Administration, U.S. Department of Commerce, 1401 Constitution Avenue NW, Washington, DC 20230; telephone: (202) 482-3208.

SUPPLEMENTARY INFORMATION:

The Petitions

On April 16, 2020, the Department of Commerce (Commerce) received antidumping duty (AD) petitions concerning imports of prestressed concrete steel wire strand (PC strand) from Argentina, Colombia, Egypt, Indonesia, Italy, Malaysia, the Netherlands, Saudi Arabia, South Africa, Spain, Taiwan, Tunisia, the Republic of Turkey (Turkey), Ukraine, and the United Arab Emirates (UAE) filed in proper form on behalf the petitioners,¹ domestic producers of PC strand.² The Petitions were accompanied by a countervailing duty (CVD) petition concerning imports of PC strand from Turkey.³

¹ Insteel Wire Products, Sumiden Wire Products Corporation, and Wire Mesh Corp. (collectively, the petitioners).

² See Petitioners' Letter, “Prestressed Concrete Steel Wire Strand from Argentina, Colombia, Egypt, Indonesia, Italy, Malaysia, the Netherlands, Saudi Arabia, South Africa, Spain, Taiwan, Tunisia, Turkey, Ukraine, and the United Arab Emirates—Petition for the Imposition of Antidumping and Countervailing Duties,” dated April 16, 2020 (the Petitions).

³ Id.

Between April 21 and 23, 2020, Commerce requested supplemental information pertaining to certain aspects of the Petitions in separate supplemental questionnaires.⁴ The petitioners filed responses to the supplemental questionnaires on April 27, 2020.⁵

⁴ See Commerce's Letters, “Petition for the Imposition of Antidumping Duties on Imports of Prestressed Concrete Steel Wire Strand from Argentina, Colombia, Egypt, Indonesia, Italy, Malaysia, the Netherlands, Saudi Arabia, South Africa, Spain, Taiwan, Tunisia, Turkey, Ukraine, and the United Arab Emirates: Supplemental Questions,” dated April 21, 2020 (General Issues Supplemental); and Country-Specific Supplemental Questionnaires: Argentina Supplemental, Colombia Supplemental, Egypt Supplemental, Indonesia Supplemental, Italy Supplemental, Malaysia Supplemental, the Netherlands Supplemental, Saudi Arabia Supplemental, South Africa Supplemental, Spain Supplemental, Taiwan Supplemental, Tunisia Supplemental, Turkey Supplemental, and the United Arab Emirates Supplemental, dated April 21, 2020, April 22, 2020, or April 23, 2020. Commerce did not request additional information with respect to Ukraine.

⁵ See Petitioners' Country-Specific Supplemental Responses, dated April 27, 2020; see also Petitioners' Letter, “Prestressed Concrete Steel Wire Strand from Argentina, Colombia, Egypt, Indonesia, Italy, Malaysia, the Netherlands, Saudi Arabia, South Africa, Spain, Taiwan, Tunisia, Turkey, Ukraine, and the United Arab Emirates—Petitioners' Amendment to Volume I Concerning General Issues,” dated April 27, 2020 (General Issues Supplement).

In accordance with section 732(b) of the Tariff Act of 1930, as amended (the Act), the petitioners allege that imports of PC strand from Argentina, Colombia, Egypt, Indonesia, Italy, Malaysia, the Netherlands, Saudi Arabia, South Africa, Spain, Taiwan, Tunisia, Turkey, Ukraine, and the UAE are being, or are likely to be, sold in the United States at less than fair value (LTFV) within the meaning of section 731 of the Act, and that imports of such products are materially injuring, or threatening material injury to, the PC strand industry in the United States. Consistent with section 732(b)(1) of the Act, the Petitions are accompanied by information reasonably available to the petitioners supporting their allegations.

Commerce finds that the petitioners filed the Petitions on behalf of the domestic industry, because the petitioners are interested parties, as defined in section 771(9)(C) of the Act. Commerce also finds that the petitioners demonstrated sufficient industry support for the initiation of the requested AD investigations.⁶

⁶ See infra, section on “Determination of Industry Support for the Petitions.”

Periods of Investigation

Because the Petitions were filed on April 16, 2020, the period of investigation (POI) for these AD investigations is April 1, 2019 through March 31, 2020, pursuant to 19 CFR 351.204(b)(1).⁷

⁷ See 19 CFR 351.204(b)(1).

Scope of the Investigations

The products covered by these investigations are PC strand from Argentina, Colombia, Egypt, Indonesia, Italy, Malaysia, the Netherlands, Saudi Arabia, South Africa, Spain, Taiwan, Tunisia, Turkey, Ukraine, and the UAE. For a full description of the scope of these investigations, see the appendix to this notice.

Comments on the Scope of the Investigations

As discussed in the Preamble to Commerce's regulations, we are setting aside a period for interested parties to raise issues regarding product coverage (i.e., scope).⁸ Commerce will consider all comments received from interested parties and, if necessary, will consult with interested parties prior to the issuance of the preliminary determinations. If scope comments include factual information,⁹ all such factual information should be limited to public information. To facilitate preparation of its questionnaires, Commerce requests that all interested parties submit such comments by 5:00 p.m. Eastern Time (ET) on May 26, 2020, which is 20 calendar days from the signature date of this notice. Any rebuttal comments, which may include factual information, must be filed by 5:00 p.m. ET on June 5, 2020, which is ten calendar days from the initial comment deadline.

⁸ See Antidumping Duties; Countervailing Duties, Final Rule, 62 FR 27296, 27323 (May 19, 1997) (Preamble).

⁹ See 19 CFR 351.102(b)(21) (defining “factual information”).

Commerce requests that any factual information parties consider relevant to the scope of the investigations be submitted during this period. However, if a party subsequently finds that additional factual information pertaining to the scope of the investigations may be relevant, the party may contact Commerce and request permission to submit the additional information. All such submissions must be filed on the records of the concurrent AD and CVD investigations.

Filing Requirements

All submissions to Commerce must be filed electronically via Enforcement and Compliance's Antidumping Duty and Countervailing Duty Centralized Electronic Service System (ACCESS), unless an exception applies.¹⁰ An electronically filed document must be received successfully in its entirety by the time and date it is due.

¹⁰ See Antidumping and Countervailing Duty Proceedings: Electronic Filing Procedures; Administrative Protective Order Procedures, 76 FR 39263 (July 6, 2011); see also Enforcement and Compliance; Change of Electronic Filing System Name, 79 FR 69046 (November 20, 2014) for details of Commerce's electronic filing requirements, effective August 5, 2011. Information on help using ACCESS can be found at https://access.trade.gov/help.aspx and a handbook can be found at https://access.trade.gov/help/Handbook_on_Electronic_Filing_Procedures.pdf.

Comments on Product Characteristics

Commerce is providing interested parties an opportunity to comment on the appropriate physical characteristics of PC strand to be reported in response to Commerce's AD questionnaires. This information will be used to identify the key physical characteristics of the subject merchandise in order to report the relevant costs of production accurately, as well as to develop appropriate product-comparison criteria.

Interested parties may provide any information or comments that they feel are relevant to the development of an accurate list of physical characteristics. Specifically, they may provide comments as to which characteristics are appropriate to use as: (1) General product characteristics, and (2) product comparison criteria. We note that it is not always appropriate to use all product characteristics as product comparison criteria. We base product comparison criteria on meaningful commercial differences among products. In other words, although there may be some physical product characteristics utilized by manufacturers to describe PC strand, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5:00 p.m. ET on May 26, 2020, which is 20 calendar days from the signature date of this notice. Any rebuttal comments must be filed by 5:00 p.m. ET on June 5, 2020. All comments and submissions to Commerce must be filed electronically using ACCESS, as explained above, on the record of each of the AD investigations.

Determination of Industry Support for the Petitions

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹¹ they do so for different purposes and pursuant to a separate and distinct authority. In addition, Commerce's determination is subject to limitations of time and information. Although this may result in different definitions of the like product, such differences do not render the decision of either agency contrary to law.¹²

¹¹ See section 771(10) of the Act.

¹² See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigations.¹³ Based on our analysis of the information submitted on the record, we have determined that PC strand, as defined in the scope, constitutes a single domestic like product, and we have analyzed industry support in terms of that domestic like product.¹⁴

¹³ See Volume I of the Petitions at 19-20 and Exhibits GEN-4 and GEN-5; see also General Issues Supplement at 4.

¹⁴ For a discussion of the domestic like product analysis as applied to these cases and information regarding industry support, see country-specific AD Initiation Checklists at Attachment II, Analysis of Industry Support for the Antidumping and Countervailing Duty Petitions Covering Prestressed Concrete Steel Wire Strand from Argentina, Colombia, Egypt, Indonesia, Italy, Malaysia, the Netherlands, Saudi Arabia, South Africa, Spain, Taiwan, Tunisia, Turkey, Ukraine, and the United Arab Emirates (Attachment II). These checklists are dated concurrently with this notice and on file electronically via ACCESS.

In determining whether the petitioners have standing under section 732(c)(4)(A) of the Act, we considered the industry support data contained in the Petitions with reference to the domestic like product as defined in the “Scope of the Investigations,” in the appendix to this notice. To establish industry support, the petitioners provided their 2019 production of the domestic like product, as well as the 2019 production of Strand-Tech Manufacturing, Inc., a supporter of the Petitions.¹⁵ The petitioners compared the production of the supporters of the Petitions to the estimated total production of the domestic like product for the entire domestic industry.¹⁶ We relied on data provided by the petitioners for purposes of measuring industry support.¹⁷

¹⁵ See Volume I of the Petitions at 4 and Exhibits GEN-2 and GEN-3; see also General Issues Supplement at 4 and Exhibit GEN-SUPP-3.

¹⁶ See Volume I of the Petitions at 4 and Exhibits GEN-1 through GEN-3; see also General Issues Supplement at 3-4 and Exhibits GEN-SUPP-2 and GEN-SUPP-3.

¹⁷ See Volume I of the Petitions at 4 and Exhibits GEN-1 through GEN-3; see also General Issues Supplement at 3-4 and Exhibits GEN-SUPP-2 and GEN-SUPP-3. For further discussion, see Attachment II of the country-specific AD Initiation Checklists.

Our review of the data provided in the Petitions, the General Issues Supplement, and other information readily available to Commerce indicates that the petitioners have established industry support for the Petitions.¹⁸ First, the Petitions established support from domestic producers (or workers) accounting for more than 50 percent of the total production of the domestic like product and, as such, Commerce is not required to take further action in order to evaluate industry support (e.g., polling).¹⁹ Second, the domestic producers (or workers) have met the statutory criteria for industry support under section 732(c)(4)(A)(i) of the Act because the domestic producers (or workers) who support the Petitions account for at least 25 percent of the total production of the domestic like product.²⁰ Finally, the domestic producers (or workers) have met the statutory criteria for industry support under section 732(c)(4)(A)(ii) of the Act because the domestic producers (or workers) who support the Petitions account for more than 50 percent of the production of the domestic like product produced by that portion of the industry expressing support for, or opposition to, the Petitions.²¹ Accordingly, Commerce determines that the Petitions were filed on behalf of the domestic industry within the meaning of section 732(b)(1) of the Act.²²

¹⁸ See Volume I of the Petitions at 4 and Exhibits GEN-1 through GEN-3; see also General Issues Supplement at 3-4 and Exhibits GEN-SUPP-2 and GEN-SUPP-3. For further discussion, see Attachment II of the country-specific AD Initiation Checklists.

¹⁹ See Attachment II of the country-specific AD Initiation Checklists; see also section 732(c)(4)(D) of the Act.

²⁰ See Attachment II of the country-specific AD Initiation Checklists.

²¹ Id.

²² Id.

Allegations and Evidence of Material Injury and Causation

The petitioners allege that the U.S. industry producing the domestic like product is being materially injured, or is threatened with material injury, by reason of the imports of the subject merchandise sold at LTFV. In addition, with regard to Colombia, Indonesia, Italy, Malaysia, South Africa, Spain, Tunisia, and Turkey, the petitioners allege that subject imports exceed the negligibility threshold provided for under section 771(24)(A) of the Act.²³ With regard to Argentina, Egypt, the Netherlands, Saudi Arabia, Taiwan, Ukraine, and the UAE, while the allegedly dumped imports from each of these countries do not individually exceed the statutory requirements for negligibility, the petitioners provide data demonstrating that the aggregate import share from these seven countries is 8.4 percent, which exceeds the seven percent threshold established by the exception in section 771(24)(A)(ii) of the Act.²⁴ Therefore, the subject imports from these countries are not negligible for purposes of the material injury analysis in these Petitions.²⁵

²³ See Volume I of the Petitions at 21-22 and Exhibit GEN-11.

²⁴ Section 771(24)(A)(ii) of the Act states “[i]mports that would otherwise be negligible under clause (i) shall not be negligible if the aggregate volume of imports of the merchandise from all countries described in clause (i) with respect to which investigations were initiated on the same day exceeds 7 percent of the volume of all such merchandise imported in to the United States during the applicable 12-month period.”

²⁵ See Volume I of the Petitions at 21-22 and Exhibit GEN-11.

The petitioners contend that the industry's injured condition is illustrated by a significant and increasing volume of subject imports; declining market share; underselling and price suppression; lost sales and revenues; declines in production, shipments, capacity utilization, and employment; and declining financial performance.²⁶ We assessed the allegations and supporting evidence regarding material injury, threat of material injury, causation, as well as negligibility, and we have determined that these allegations are properly supported by adequate evidence, and meet the statutory requirements for initiation.²⁷

²⁶ See Volume I of the Petitions at 25-39 and Exhibits GEN-9 and GEN-12 through GEN-16.

²⁷ See country-specific AD Initiation Checklists at Attachment III, Analysis of Allegations and Evidence of Material Injury and Causation for the Antidumping and Countervailing Duty Petitions Covering Prestressed Concrete Steel Wire Strand from Argentina, Colombia, Egypt, Indonesia, Italy, Malaysia, the Netherlands, Saudi Arabia, South Africa, Spain, Taiwan, Tunisia, Turkey, Ukraine, and the United Arab Emirates (Attachment III).

Allegations of Sales at LTFV

The following is a description of the allegations of sales at LTFV upon which Commerce based its decision to initiate AD investigations of imports of PC strand from Argentina, Colombia, Egypt, Indonesia, Italy, Malaysia, the Netherlands, Saudi Arabia, South Africa, Spain, Taiwan, Tunisia, Turkey, Ukraine, and the UAE. The sources of data for the deductions and adjustments relating to U.S. price and normal value (NV) are discussed in greater detail in the country-specific AD Initiation Checklists.

U.S. Price

For Argentina and Taiwan, the petitioners based export price (EP) on the average unit value of publicly available import data. For Colombia, Egypt, Indonesia, Italy, Malaysia, the Netherlands, Saudi Arabia, South Africa, Spain, Tunisia, Turkey, Ukraine, and the UAE, the petitioners based EP or constructed export price (CEP), as applicable, on pricing information for sales of, or sales offers for, PC strand produced in and exported from each country. The petitioners made certain adjustments to U.S. price to calculate a net ex-factory U.S. price.²⁸

²⁸ See country-specific AD Initiation Checklists.

Normal Value ²⁹

²⁹ In accordance with section 505(a) of the Trade Preferences Extension Act of 2015 (TPEA), amending section 773(b)(2) of the Act, for these investigations, Commerce will request information necessary to calculate the constructed value and cost of production (COP) to determine whether there are reasonable grounds to believe or suspect that sales of the foreign like product have been made at prices that represent less than the COP of the product. Commerce no longer requires a COP allegation to conduct this analysis.

For all countries, the petitioners based NV on a home market price quote obtained through market research for PC strand produced in and sold, or offered for sale, in each country within the applicable time period.³⁰ For Ukraine, the petitioners provided information indicating that the price quote was below the COP and, therefore, the petitioners also calculated NV based on constructed value (CV).

³⁰ See country-specific AD Initiation Checklists.

For further discussion of CV, see the section “Normal Value Based on Constructed Value.”

Normal Value Based on Constructed Value

As noted above, the petitioners provided information indicating that the price charged for PC strand produced in and sold, or offered for sale, in Ukraine was below the COP. Accordingly, the petitioners also based NV on CV.³¹ Pursuant to section 773(e) of the Act, the petitioners calculated CV as the sum of the cost of manufacturing, selling, general, and administrative expenses, financial expenses, and profit.³²

³¹ See country-specific AD Initiation Checklists for details of calculations.

³² See Ukraine AD Initiation Checklist.

Fair Value Comparisons

Based on the data provided by the petitioners, there is reason to believe that imports of PC strand from Argentina, Colombia, Egypt, Indonesia, Italy, Malaysia, the Netherlands, Saudi Arabia, South Africa, Spain, Taiwan, Tunisia, Turkey, Ukraine, and the UAE are being, or are likely to be, sold in the United States at LTFV. Based on comparisons of EP or CEP, as applicable, to NV in accordance with sections 772 and 773 of the Act, the estimated dumping margins for PC strand for each of the countries covered by this initiation are as follows: (1) Argentina—60.40 percent; (2) Colombia—86.09 percent; (3) Egypt—29.72 percent; (4) Indonesia—72.28 percent; (5) Italy—30.61 percent; (6) Malaysia—39.57 percent; (7) the Netherlands—30.86 percent; (8) Saudi Arabia—194.40 percent; (9) South Africa—155.10 percent; (10) Spain—38.57 percent; (11) Taiwan—23.89 percent; (12) Tunisia—53.11 percent; (13) Turkey—53.65 percent; (14) Ukraine—17.70 and 53.83 percent; and (15) the UAE—170.65 percent.³³

³³ See country-specific Initiation Checklists for details of calculations.

Initiation of LTFV Investigations

Based upon the examination of the Petitions and supplemental responses, we find that they meet the requirements of section 732 of the Act. Therefore, we are initiating AD investigations to determine whether imports of PC strand from Argentina, Colombia, Egypt, Indonesia, Italy, Malaysia, the Netherlands, Saudi Arabia, South Africa, Spain, Taiwan, Tunisia, Turkey, Ukraine, and the UAE are being, or are likely to be, sold in the United States at LTFV. In accordance with section 733(b)(1)(A) of the Act and 19 CFR 351.205(b)(1), unless postponed, we will make our preliminary determinations no later than 140 days after the date of this initiation.

Respondent Selection

In the Petitions, the petitioners named one company in Argentina, two companies in Colombia, three companies in Egypt, four companies in Indonesia, seven companies in Italy, three companies in Malaysia, one company in the Netherlands, two companies in Saudi Arabia, one company in South Africa, two companies in Spain, five companies in Taiwan, one company in Tunisia, three companies in Turkey, one company in Ukraine, and two companies in the UAE ³⁴ as producers/exporters of PC strand.

³⁴ See Volume I of the Petitions at Exhibit GEN-8.

Following standard practice in AD investigations involving market economy countries, in the event Commerce determines that the number of exporters or producers in any individual case is large such that Commerce cannot individually examine each company based upon its resources, where appropriate, Commerce intends to select mandatory respondents in that case based on U.S. Customs and Border Protection (CBP) data for U.S. imports under the appropriate Harmonized Tariff Schedule of the United States numbers listed in the “Scope of the Investigations,” in the appendix.

On May 4, 2020, Commerce released CBP data on imports of PC strand from Colombia, Egypt, Indonesia, Italy, Malaysia, Saudi Arabia, Spain, Taiwan, Turkey, and the UAE under Administrative Protective Order (APO) to all parties with access to information protected by APO and indicated that interested parties wishing to comment on the CBP data must do so within three business days of the publication date of the notice of initiation of these investigations.³⁵ Commerce will not accept rebuttal comments regarding the CBP data or respondent selection.

³⁵ See Memorandum, “Antidumping Duty Investigation of PC strand: Release of Customs Data from U.S. Customs and Border Protection,” dated May 4, 2020.

Interested parties must submit applications for disclosure under APO in accordance with 19 CFR 351.305(b). Instructions for filing such applications may be found on Commerce's website at http://enforcement.trade.gov/apo.

The petitioners identified one company in Argentina as the producer/exporter of PC strand (i.e., Acindar Industria De Sinai S.A.), one company in the Netherlands as the producer/exporter PC strand (i.e., Nedri Spanstaal BV), one company in South Africa as the producer/exporter of PC strand (i.e., Scaw Metals Group), one company in Tunisia as the producer/exporter of PC strand (i.e., Ste. Ten. De Trefilage Maklada), and one company in Ukraine as the producer/exporter of PC strand (i.e., PJSC PA Stalkanat Silur), and provided independent third-party information as support.³⁶ We currently know of no additional producers/exporters of PC strand from Argentina, the Netherlands, South Africa, Tunisia, and Ukraine. Accordingly, Commerce intends to individually examine all known producers/exporters in the investigations from these countries (i.e., the companies cited above).

³⁶ See Volume I of the Petitions at Exhibit GEN-8; see also General Issues Supplement at 3 and Exhibit GEN-SUPP-1.

Parties wishing to comment on respondent selection for Argentina, the Netherlands, South Africa, Tunisia, and Ukraine must do so within three business days of the publication of this notice in the Federal Register. Commerce will not accept rebuttal comments regarding respondent selection for Argentina, the Netherlands, South Africa, Tunisia, and Ukraine. Comments must be filed electronically using ACCESS. An electronically-filed document must be received successfully in its entirety via ACCESS by 5:00 p.m. ET on the specified deadline.

Distribution of Copies of the AD Petitions

In accordance with section 732(b)(3)(A) of the Act and 19 CFR 351.202(f), copies of the public version of the AD Petitions have been provided to the governments of Argentina, Colombia, Egypt, Indonesia, Italy, Malaysia, the Netherlands, Saudi Arabia, South Africa, Spain, Taiwan, Tunisia, Turkey, Ukraine, and the UAE via ACCESS. To the extent practicable, we will attempt to provide a copy of the public version of the AD Petitions to each exporter named in the AD Petitions, as provided under 19 CFR 351.203(c)(2).

ITC Notification

We will notify the ITC of our initiation, as required by section 732(d) of the Act.

Preliminary Determinations by the ITC

The ITC will preliminarily determine, within 45 days after the date on which the AD Petitions were filed, whether there is a reasonable indication that imports of PC strand from Argentina, Colombia, Egypt, Indonesia, Italy, Malaysia, the Netherlands, Saudi Arabia, South Africa, Spain, Taiwan, Tunisia, Turkey, Ukraine, and/or the UAE are materially injuring, or threatening material injury to, a U.S. industry.³⁷ A negative ITC determination for any country will result in the investigation being terminated with respect to that country.³⁸ Otherwise, these AD investigations will proceed according to statutory and regulatory time limits.

³⁷ See section 733(a) of the Act.

³⁸ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ³⁹ and, if the information is submitted to rebut, clarify, or correct factual information already on the record, to provide an explanation identifying the information already on the record that the factual information seeks to rebut, clarify, or correct.⁴⁰ Time limits for the submission of factual information are addressed in 19 CFR 351.301, which provides specific time limits based on the type of factual information being submitted. Interested parties should review the regulations prior to submitting factual information in these investigations.

³⁹ See 19 CFR 351.301(b).

⁴⁰ See 19 CFR 351.301(b)(2).

Particular Market Situation Allegation

Section 504 of the TPEA amended the Act by adding the concept of particular market situation (PMS) for purposes of CV under section 773(e) of the Act.⁴¹ Section 773(e) of the Act states that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

⁴¹ See TPEA, Public Law 114-27, 129 Stat. 362 (2015).

Neither section 773(e) of the Act, nor 19 CFR 351.301(c)(2)(v), set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of a respondent's initial section D questionnaire response.

Extensions of Time Limits

Parties may request an extension of time limits before the expiration of a time limit established under 19 CFR 351.301, or as otherwise specified by Commerce. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for submissions which are due from multiple parties simultaneously. In such a case, we will inform parties in a letter or memorandum of the deadline (including a specified time) by which extension requests must be filed to be considered timely. An extension request must be made in a separate, stand-alone submission; under limited circumstances we will grant untimely-filed requests for the extension of time limits. Parties should review Extension of Time Limits; Final Rule, 78 FR 57790 (September 20, 2013), available at http://www.gpo.gov/fdsys/pkg/FR-2013-09-20/html/2013-22853.htm, prior to submitting factual information in these investigations.

Certification Requirements

Any party submitting factual information in an AD or CVD proceeding must certify to the accuracy and completeness of that information.⁴² Parties must use the certification formats provided in 19 CFR 351.303(g).⁴³ Commerce intends to reject factual submissions if the submitting party does not comply with the applicable certification requirements.

⁴² See section 782(b) of the Act.

⁴³ See Certification of Factual Information to Import Administration During Antidumping and Countervailing Duty Proceedings, 78 FR 42678 (July 17, 2013) (Final Rule). Answers to frequently asked questions regarding the Final Rule are available at http://enforcement.trade.gov/tlei/notices/factual_info_final_rule_FAQ_07172013.pdf.

Notification to Interested Parties

Interested parties must submit applications for disclosure under APO in accordance with 19 CFR 351.305. On January 22, 2008, Commerce published Antidumping and Countervailing Duty Proceedings: Documents Submission Procedures; APO Procedures, 73 FR 3634 (January 22, 2008). Parties wishing to participate in these investigations should ensure that they meet the requirements of these procedures (e.g., the filing of letters of appearance as discussed at 19 CFR 351.103(d)). Note that Commerce has temporarily modified certain portions of its requirements for serving documents containing business proprietary information, until May 19, 2020, unless extended.⁴⁴

⁴⁴ See Temporary Rule Modifying AD/CVD Service Requirements Due to COVID-19, 85 FR 17006 (March 26, 2020).

This notice is issued and published pursuant to sections 732(c)(2) and 777(i) of the Act, and 19 CFR 351.203(c).

Dated: May 6, 2020.
Jeffrey I. Kessler,
Assistant Secretary, for Enforcement and Compliance.

Appendix

Scope of the Investigations

The merchandise covered by these investigations is prestressed concrete steel wire strand (PC strand), produced from wire of non-stainless, non-galvanized steel, which is suitable for use in prestressed concrete (both pretensioned and post-tensioned) applications. The product definition encompasses covered and uncovered strand and all types, grades, and diameters of PC strand. PC strand is normally sold in the United States in sizes ranging from 0.25 inches to 0.70 inches in diameter. PC strand made from galvanized wire is only excluded from the scope if the zinc and/or zinc oxide coating meets or exceeds the 0.40 oz./ft² standard set forth in ASTM-A-475. The PC strand subject to these investigations is currently classifiable under subheadings 7312.10.3010 and 7312.10.3012 of the Harmonized Tariff Schedule of the United States (HTSUS). Although the HTSUS subheadings are provided for convenience and customs purposes, the written description of the scope of these investigations is dispositive.

[FR Doc. 2020-10233 Filed 5-12-20; 8:45 am]

BILLING CODE 3510-DS-P